DEPARTMENT OF JUSTICE

Notice of Lodging of Proposed Stipulation and Agreed Judgment Under the System Unit Resource Protection Act

On November 19, 2015, the Department of Justice lodged a Proposed Stipulation and Agreed Judgment with the United States District Court for the Northern District of Indiana in the lawsuit entitled United States v. Indiana Harbor Belt Railroad Co., et al., Civil Action No. 2:15-cv-0087.

The Stipulation and Agreed Judgment resolves the United States' claims against the Indiana Harbor Belt Railroad Co., et al. (“Defendants”) for alleged violation of the System Unit Resource Protection Act, 54 U.S.C. 100721—100725, as set forth in the United States' Verified Complaint filed on March 9, 2015. In this action, the United States seeks recovery of system unit resource damages and response costs that resulted from fires at the Indiana Dunes National Lakeshore on March 10, 2012, and March 11, 2012. The Verified Complaint alleges that Defendants destroyed, caused the loss of, or injured, System unit resources, including experimental data and property owned by the National Park Service, and that Defendants are liable for response costs and damages resulting from the destruction, loss, and/or injury.

Under the Stipulation and Agreed Judgment, Defendants will pay to the United States $72,500 for response costs and damages described in the Complaint. There is no injunctive relief under this Judgment.

The publication of this notice opens a period for public comment on the proposed Stipulation and Agreed Judgment. Comments should be addressed to the Assistant Attorney General, Environment and Natural Resources Division, and should refer to United States v. Indiana Harbor Belt Railroad Co., et al., D.J. Ref. No. 90-5-1-1-11105. All comments must be submitted no later than thirty (30) days after the publication date of this notice. Comments may be submitted either by email or by mail:

—
To submit comments: | Send them to:
By email | pubcomment-ees.enrd@usdoj.gov.
By mail | Assistant Attorney General, U.S. DOJ—ENRD, P.O. Box 7611, Washington, DC 20044-7611.

During the public comment period, the proposed Stipulation and Agreed Judgment may be examined and downloaded at this Justice Department Web site: http://www.justice.gov/enrd/consent-decrees. We will provide a paper copy of the proposed Stipulation and Agreed Judgment upon written request and payment of reproduction costs. Please mail your request and payment to: Consent Decree Library, U.S. DOJ—ENRD, P.O. Box 7611, Washington, DC 20044-7611.

Please enclose a check or money order for $2.75 (25 cents per page reproduction cost) payable to the United States Treasury. For a paper copy without the exhibits and signature pages, the cost is $2.25.

Randall M. Stone,
Acting Assistant Section Chief, Environmental Enforcement Section, Environment and Natural Resources Division.

[FR Doc. 2015-30161 Filed 11-25-15; 8:45 am]

BILLING CODE 4410-15-P